DEPARTMENT OF DEFENSE

Office of the Secretary

[Docket ID: DoD-2014-HA-0162]

Proposed Collection; Comment Request

Correction

In notice document 2014-30753 appearing on pages 34-35 in the issue of January 2, 2015, make the following correction:

On page 34, in the second column, under the DATES heading, in the second line, “March 3, 2014” should read “March 3, 2015”.

[FR Doc. C1-2014-30753 Filed 1-12-15; 8:45 am]

BILLING CODE 1505-01-D